DEPARTMENT OF HEALTH AND HUMAN SERVICES

National Institutes of Health

Notice of Open Meeting

SUMMARY: The National Institute of Diabetes and Digestive and Kidney Diseases (NIDDK), a research institute of the National Institutes of Health (NIH), Department of Health and Human Services (DHHS), will hold a scientific meeting titled “Novel Phenotyping Methods in Symptoms of Lower Urinary Tract Dysfunction” and invites the public to attend.

DATES: June 19, 2013 from 12:00 p.m.-1:00 p.m.

ADDRESSES: This is a virtual meeting, and registration information will be sent upon request.

SUPPLEMENTARY INFORMATION: NIDDK is seeking individuals, companies, or organizations that have or use novel and innovative imaging, mobile smart apps, handheld devices, wireless and remote technologies and new tools or devices to evaluate/measure lower urinary function/dysfunction. There may be opportunities to use those technologies in a future phenotyping cohort. This webinar is intended to provide information on the opportunities for novel phenotyping methods to be tested in prospective cohort to the potentially interested parties. This webinar is free and open to the public. Early registration is requested, registration requests after June 18, 2013 COB will not be honored. For more information please contact Dr. Ziya Kirkali.

FOR FURTHER INFORMATION CONTACT: Ziya Kirkali, M.D.; Senior Scientific Advisor, Division of Kidney, Urology and Hematology, NIDDK, NIH. Phone: 301-594-7717, Email: kirkaliz@mail.nih.gov.

Dated: June 6, 2013.
Griffin P. Rodgers,
Director, National Institute of Diabetes and Digestive and Kidney Diseases, National Institutes of Health.

[FR Doc. 2013-14172 Filed 6-14-13; 8:45 am]

BILLING CODE 4140-01-P